LEGAL SERVICES CORPORATION

Notice of Intent To Award—Grant Awards for the Provision of Civil Legal Services to Eligible Clients in Louisiana (Service Area LA-1) Beginning June 2011

AGENCY: Legal Services Corporation.

ACTION: Announcement of intention to make FY 2011 Competitive Grant Awards.

SUMMARY: The Legal Services Corporation (LSC) hereby announces its intention to award grants and contracts to provide economical and effective delivery of high quality civil legal services to eligible clients in Louisiana (service area LA-1) beginning June 2011. Service area LA-1 comprises the following Louisiana parishes: Ascension Parish, Assumption Parish, East Baton Rouge Parish, East Feliciana Parish, Iberville Parish, Lafourche Parish, Pointe Coupee Parish, St. James Parish, St. John the Baptist Parish, Terrebonne Parish, West Baton Rouge Parish, and West Feliciana Parish.

DATES: All comments and recommendations must be received on or before the close of business on May 9, 2011.

ADDRESSES: Legal Services Corporation—Competitive Grants, Legal Services Corporation; 3333 K Street, NW., Third Floor; Washington, DC 20007.

FOR FURTHER INFORMATION CONTACT: Reginald Haley, Office of Program Performance, at (202) 295-1545, or haleyr@lsc.gov.

SUPPLEMENTARY INFORMATION: Pursuant to LSC's announcement of funding availability on January 11, 2011 (76 FR 7), LSC intends to award funds to the following organizations to provide civil legal services in the indicated service areas. Amounts are subject to change.

State and service area | Applicant name | Annualized grant amount
Louisiana:
LA-1 | Capital Area Legal Services Corporation, Inc | $1,629,216
LA-1 | Southeast Louisiana Legal Services Corporation, Inc | 1,629,216

These grants and contracts will be awarded under the authority conferred on LSC by the Legal Services Corporation Act, as amended (42 U.S.C. 2996e(a)(1)). Awards will be made so that each service area is served, although none of the listed organizations are guaranteed an award or contract. This public notice is issued pursuant to the LSC Act (42 U.S.C. 2996f(f)), with a request for comments and recommendations concerning the potential grantees within a period of thirty (30) days from the date of publication of this notice. Grants will become effective and grant funds will be distributed in June 2011.

Dated: March 31, 2011.
Janet LaBella,
Director, Office of Program Performance, Legal Services Corporation.

[FR Doc. 2011-8191 Filed 4-7-11; 8:45 am]

BILLING CODE 7050-01-P